DEPARTMENT OF TRANSPORTATION

Federal Transit Administration

[Docket No. FTA-2014-0008]

State of Good Repair Grants Program: Proposed Circular; Correction

AGENCY: Federal Transit Administration (FTA), DOT.

ACTION: Notice of availability of proposed circular and request for comments; correction.

SUMMARY: On March 3, 2014, the Federal Transit Administration (FTA) published a notice of available guidance regarding the State of Good Repair Grants program. In the March 3, 2014, notice, the DATES section was incorrect and this notice corrects it.

DATES: Comments must be received by May 2, 2014. Late filed comments may be considered so far as practicable.

ADDRESSES: You may submit comments, identified by docket number FTA-2014-0008, by any of the methods described in the March 3, 2014, notice.

FOR FURTHER INFORMATION CONTACT: Eric Hu, FTA Office of Program Management, (202) 366-0870, Eric.Hu@dot.gov.

SUPPLEMENTARY INFORMATION: On March 3, 2014, the FTA published a notice in the Federal Register (79 FR 11865) stating that the FTA had placed in the docket and on its Web site proposed guidance in the form of a circular, FTA Circular 5300.1, to assist recipients of financial aid under the 49 U.S.C. 5337 State of Good Repair (SGR) Grants program. The March 3, 2014, notice also provided a summary of and sought public comment on the proposed FTA Circular 5300.1.

The March 3, 2014, notice incorrectly stated that the deadline for the submission of comments on the proposed FTA Circular 5300.1 was April 2, 2014. The correct deadline for the submission of comments is May 2, 2014.

Therese W. McMillan,
Deputy Administrator.

[FR Doc. 2014-06823 Filed 3-26-14; 8:45 am]

BILLING CODE P